DEPARTMENT OF AGRICULTURE

Agricultural Marketing Service

7 CFR Parts 1000, 1005, 1006, and 1007

[AMS-DA-07-0059; AO-388-A22; AO-356-A43 and AO-366-A51; Docket No. DA-07-03-A]

Milk in the Appalachian, Florida and Southeast Marketing Areas; Interim Order Amending the Orders

AGENCY: Agricultural Marketing Service, USDA

ACTION: Interim final rule.

SUMMARY: This order adjusts the Class I pricing surface of the Appalachian, Southeast and Florida Federal milk marketing orders on an interim basis. In addition, this order amends on an interim basis certain features of the diversion limit, touch-base standards and transportation credit provisions for the Appalachian and Southeast Federal milk marketing orders. More than the required producers approved the issuance of the interim order as amended.

DATES: Effective Date: All amendments are effective March 18, 2008, except for amendments to §§ 1005.51, 1006.51, and 1007.51, which are effective on May 1, 2008.

FOR FURTHER INFORMATION CONTACT: Gino M. Tosi, Associate Deputy Administrator, USDA/AMS/Dairy Programs, Order Formulation and Enforcement Branches, STOP 0231-Room 2971, 1400 Independence Avenue, SW., Washington, DC 20250-0231, (202) 690-1366, e-mail address: gino.tosi@usda.gov.

SUPPLEMENTARY INFORMATION: This interim final rule adopts provisions that will: (1) Adjust the Class I pricing surface in each county within the geographical marketing areas of the Appalachian, Florida and Southeast marketing orders; (2) Make diversion limit standards identical for the Appalachian and Southeast orders: 25 percent of deliveries to pool plants during the months of January, February, July, August, September, October and November, and 35 percent in the months of March, April, May, June and December; (3) Reduce touch-base standards to one day each month for the Appalachian and Southeast orders; (4) Add January and February as months when transportation credits are paid for in the Appalachian and Southeast orders; (5) Provide for the payment of transportation credits in the Appalachian and Southeast orders for full loads of supplemental milk; (6) Provide more flexibility in the qualification requirements for supplemental milk producers to receive transportation credits for the Appalachian and Southeast orders; and (7) Increase the monthly transportation credit assessment from $0.20 per cwt to $0.30 per cwt in the Southeast order.

This administrative rule is governed by the provisions of Sections 556 and 557 of Title 5 of the United States Code and, therefore, is excluded from the requirements of Executive Order 12866.

This interim rule has been reviewed under Executive Order 12988, Civil Justice Reform. This rule is not intended to have a retroactive effect. This rule will not preempt any state or local laws, regulations, or policies, unless they present an irreconcilable conflict with this rule.

The Agricultural Marketing Agreement Act of 1937, as amended (7 U.S.C. 601-674) (Act), provides that administrative proceedings must be exhausted before parties may file suit in court. Under Section 608c(15)(A) of the Act, any handler subject to an order may request modification or exemption from such order by filing with the Department of Agriculture (USDA) a petition stating that the order, any provision of the order, or any obligation imposed in connection with the order is not in accordance with the law. A handler is afforded the opportunity for a hearing on the petition. After a hearing, the Department would rule on the petition. The Act provides that the district court of the United States in any district in which the handler is an inhabitant, or has its principal place of business, has jurisdiction in equity to review the Department's ruling on the petition, provided a bill in equity is filed not later than 20 days after the date of the entry of the ruling.

Regulatory Flexibility Act and Paperwork Reduction Act

In accordance with the Regulatory Flexibility Act (5 U.S.C. 601-612), the Agricultural Marketing Service (AMS) has considered the economic impact of this action on small entities and has certified that this interim rule will not have a significant economic impact on a substantial number of small entities. For the purpose of the Regulatory Flexibility Act, a dairy farm is considered a small business if it has an annual gross revenue of less than $750,000, and a dairy products manufacturer is a small business if it has fewer than 500 employees.

For the purposes of determining which dairy farms are small businesses, the $750,000 per year criterion was used to establish a marketing guideline of 500,000 pounds per month. Although this guideline does not factor in additional monies that may be received by dairy producers, it should be an inclusive standard for most “small” dairy farmers. For purposes of determining a handler's size, if the plant is part of a larger company operating multiple plants that collectively exceed the 500-employee limit, the plant will be considered a large business even if the local plant has fewer than 500 employees.

During May 2007, the time of the hearing, there were 2,744 dairy farmers pooled on the Appalachian order (Order 5). For the Southeast order (Order 7), 2,924 dairy farmers were pooled on the order. For the Florida order (Order 6), 283 dairy farmers were pooled on the order. Of these, 2,612 dairy farmers in Order 5 (or 95.2 percent), 2,739 dairy farmers in Order 7 (or 94 percent) and 153 dairy farmers in Order 6 (or 54 percent) were considered small businesses.

During May 2007, there were a total of 36 plants associated with the Appalachian order (22 fully regulated plants, 10 partially regulated plants, 2 producer-handlers and 2 exempt plants). A total of 55 plants were associated with the Southeast order (33 fully regulated plants, 9 partially regulated plants, 2 producer-handlers and 11 exempt plants). A total of 25 plants were associated with the Florida order (13 fully regulated plants, 9 partially regulated plants, 1 producer-handler and 2 exempt plants). The number of plants meeting small business criteria under the Appalachian, Southeast and Florida orders were 8 (or 22.2 percent), 18 (or 32.7 percent) and 11 (or 44 percent), respectively.

The amendments adopted in this interim rule provide for the increase in Class I prices in the Appalachian, Southeast and Florida orders. The minimum Class I prices of the three southeastern orders, as with all other Federal milk marketing orders, are set by using the higher of an advance Class III or Class IV price as determined by the Department and adding a location-specific differential, referred to as a Class I differential. Minimum Class I prices charged to regulated handlers are applied uniformly to both large and small entities. Class I price increases would generate higher marketwide pool values in all three southeastern orders by approximately $18-19 million for the Appalachian order, approximately $17.5 million for the Southeast order and approximately $38 million for the Florida order. In estimating the impact on minimum prices paid to dairy farmers, blend prices will increase by approximately $0.26 per cwt for the Appalachian order, approximately $0.64 per cwt higher for the Southeast order, and $1.19 per cwt to $1.22 per cwt higher for the Florida order.

The adopted amendments revise the Appalachian and Southeast orders by making the diversion limit standards for the orders identical—not to exceed 25 percent for the months of January, February, and July through November, and 35 percent for the months of March through June and for the month of December. Currently, the diversion limit standards of the Appalachian order for pool plants and cooperatives acting as handlers are not to exceed 25 percent for the months of July through November, and January and February; and 40 percent for the months of December and March through June. For the Southeast order, the current diversion limit standards for pool plants and cooperatives acting as handlers are not to exceed 33 percent during the months of July through December, and 50 percent in the months of January through June.

In addition, the amendments adopt identical daily touch-base standards of at least one-days' milk production each month of a dairy farmer in the Appalachian and Southeast orders. Currently, the Appalachian order has a touch-base standard of 6 days' production in any month of July through December and not less than 2 days' production for the months of January through June. Currently, the Southeast order has a touch-base standard of not less than 10 days' production for the months of July through December and not less than 4 day's production for the months of January through June.

The adopted changes to the pooling standards serve to revise established criteria that determine those producers, producer milk and plants that have a reasonable association with and are consistently serving the fluid needs of the Appalachian and Southeast marketing areas. Criteria for pooling are established on the basis of performance levels that are considered adequate to meet the Class I needs and determine those producers who are eligible to share in the revenue that arises from the classified pricing of milk. The criteria for pooling are established without regard to the size of any dairy industry or entity. The criteria established are applied in an identical fashion to both large and small businesses and do not have any different economic impact on small entities as opposed to large entities.

The adopted amendments add January and February to the months of July though December as months when transportation credits may be paid for the Appalachian and Southeast orders to those handlers who incur the costs of providing supplemental milk. The amendments also expand the payment of transportation credits for supplemental milk to include the full load of milk rather than the calculated Class I portion and provide more flexibility in the qualification requirements for supplemental milk producers to receive transportation credits for the Appalachian and Southeast orders. In addition, only the monthly transportation credit assessment for the Southeast order is increased from the current $0.20 per cwt to $0.30 per cwt on all milk assigned to Class I use. The transportation credit provisions are applicable only to the Appalachian and Southeast orders and are applied in an identical fashion to both large and small businesses and will not have any different impact on those businesses producing manufactured milk products. The changes will not have a significant economic impact on a substantial number of small entities.

The Agricultural Marketing Service (AMS) is committed to complying with the E-Government Act, to promote the use of the Internet and other information technologies to provide increased opportunities for citizen access to Government information and services, and for other purposes.

This notice does not require additional information collection that needs clearance by the Office of Management and Budget (OMB) beyond currently approved information collection. The primary sources of data used to complete the forms are routinely used in most business transactions. Forms require only a minimal amount of information that can be supplied without data processing equipment or a trained statistical staff. Thus, the information collection and reporting burden is relatively small. Requiring the same reports for all handlers does not significantly disadvantage any handler that is smaller than the industry average.

Prior Documents in This Proceeding

Notice of Hearing: Issued May 3, 2007; published May 8, 2007 (72 FR 25986).

Partial Tentative Decision: Issued February 21, 2008; published February 25, 2008 (73 FR 11194).

Findings and Determinations

The findings and determinations hereinafter set forth supplement those that were made when the Appalachian, Florida and Southeast orders were first issued and when they were amended. The previous findings and determinations are hereby ratified and confirmed, except where they may conflict with those set forth herein.

The following findings are hereby made with respect to the Appalachian and Southeast marketing orders:

(a) Findings upon the basis of the hearing record.

A public hearing was held upon certain proposed amendments to the tentative marketing agreements and to the orders regulating the handling of milk in the Appalachian, Florida and Southeast marketing areas. The hearing was held pursuant to the provisions of the Agricultural Marketing Agreement Act of 1937, as amended (7 U.S.C. 601-674) (Act), and the applicable rules of practice and procedure (7 CFR Part 900).

Upon the basis of the evidence introduced at such hearing and the record thereof, it is found that:

(1) The said orders as hereby amended, and all of the terms and conditions thereof, will tend to effectuate the declared policy of the Act;

(2) The parity prices of milk, as determined pursuant to section 2 of the Act, are not reasonable in view of the price of feeds, available supplies of feeds, and other economic conditions which affect market supply and demand for milk in the aforesaid marketing areas. The minimum prices specified in the orders as hereby amended on an interim basis, are such prices as will reflect the aforesaid factors, insure a sufficient quantity of pure and wholesome milk, and be in the public interest; and

(3) The said orders, as hereby amended on an interim basis, regulates the handling of milk in the same manner as, and is applicable only to persons in the respective classes of industrial or commercial activity specified in, a marketing agreement upon which a hearing has been held.

(b) Additional Findings. It is necessary and in the public interest to make these interim amendments to the Appalachian, Florida and Southeast orders effective one day following publication of this rule in the Federal Register, except for all Class I pricing adjustments which are effective May 1, 2008. This date will assure industry participants have appropriate time to be informed of changes and make orderly marketing adjustments. Any delay beyond that date would tend to disrupt the orderly marketing of milk in the aforesaid marketing areas.

The interim amendments to this order are known to handlers. The tentative partial decision containing the proposed amendments to this order was issued on February 21, 2008.

The changes that result from these interim amendments will not require extensive preparation or substantial alteration in the method of operation for handlers. In view of the foregoing, it is hereby found and determined that good cause exists for making these interim amendments effective one day following publication of this rule in the Federal Register. It would be contrary to the public interest to delay the effective date of these amendments for 30 days after publication in the Federal Register. (Sec. 553(d), Administrative Procedures Act, 5 U.S.C. 551-559.)

(c) Determinations. It is hereby determined that:

(1) The refusal or failure of handlers (excluding cooperative associations specified in Section 8c(9) of the Act) of more than 50 percent of the milk, which is marketed within the specified marketing areas, to sign a proposed marketing agreement, tends to prevent the effectuation of the declared policy of the Act;

(2) The issuance of this interim order amending the Appalachian, Florida and Southeast orders is the only practical means pursuant to the declared policy of the Act of advancing the interests of producers as defined in the orders as hereby amended;

(3) The issuance of the interim orders amending the Appalachian, Florida and Southeast orders is favored by at least two-thirds of the producers who were engaged in the production of milk for sale in the respective marketing areas.

Order Relative to Handling

It is therefore ordered, that on and after the effective date hereof, the handling of milk in the Appalachian, Florida and Southeast marketing areas shall be in conformity to and in compliance with the terms and conditions of the orders, as amended, and as hereby amended, as follows:

List of Subjects in 7 CFR Parts 1000, 1005, 1006 and 1007

Milk marketing orders.

Accordingly, the Agricultural Marketing Service amends 7 CFR parts 1000, 1005, 1006, and 1007 as follows:

1. The authority citation for 7 CFR parts 1000, 1005, 1006, and 1007 continues to read as follows:

Authority: 7 U.S.C. 601-674, and 7253.

PART 1000—GENERAL PROVISIONS OF FEDERAL MILK MARKETING ORDERS

2. In § 1000.50, paragraphs (b) and (c) are revised to read as follows:

§ 1000.50 Class prices, component prices, and advanced pricing factors.

* * * * *

(b) Class I skim milk price. The Class I skim milk price per hundredweight shall be the adjusted Class I differential specified in § 1000.52, plus the adjustment to Class I prices specified in § 1005.51(b), § 1006.51(b) and § 1007.51(b), plus the higher of the advanced pricing factors computed in paragraph (q)(1) or (2) of this section.

(c) Class I butterfat price. The Class I butterfat price per pound shall be the adjusted Class I differential specified in § 1000.52 divided by 100, plus the adjustments to Class I prices specified in § 1005.51(b), 1006.51(b) and 1007.51(b) divided by 100, plus the advanced butterfat price computed in paragraph (q)(3) of this section.

* * * * *

PART 1005—MILK IN THE APPALACHIAN MARKETING AREA

3. In § 1005.13, paragraphs (d)(1) through (4) are revised to read as follows:

§ 1005.13 Producer milk.

* * * * *

(d) * * *

(1) In any month of July through December, not less than 1 days' production of the producer whose milk is diverted is physically received at a pool plant during the month;

(2) In any month of January through June, not less than 1 days' production of the producer whose milk is diverted is physically received at a pool plant during the month;

(3) The total quantity of milk so diverted during the month by a cooperative association shall not exceed 25 percent during the months of July through November, January, and February, and 35 percent during the months of December and March through June, of the producer milk that the cooperative association caused to be delivered to, and physically received at, pool plants during the month;

(4) The operator of a pool plant that is not a cooperative association may divert any milk that is not under the control of a cooperative association that diverts milk during the month pursuant to paragraph (d) of this section. The total quantity of milk so diverted during the month shall not exceed 25 percent during the months of July through November, January, and February, and 35 percent during the months of December and March through June, of the producer milk physically received at such plant (or such unit of plants in the case of plants that pool as a unit pursuant to § 1005.7(d)) during the month, excluding the quantity of producer milk received from handlers described in § 1000.9(c);

* * * * *

4. Section 1005.51 is revised to read as follows:

§ 1005.51 Class I differential, adjustments to Class I prices, and Class I price.

(a) The Class I differential shall be the differential established for Mecklenburg County, North Carolina, which is reported in § 1000.52. The Class I price shall be the price computed pursuant to § 1005.50(a) for Mecklenburg County, North Carolina.

(b) Adjustment to Class I prices. Class I prices shall be established pursuant to § 1000.50(a), (b) and (c) using the following adjustments:

State | County/parish | FIPS | Class I price adjustment
GA | CATOOSA | 13047 | 0.60
GA | CHATTOOGA | 13055 | 0.60
GA | DADE | 13083 | 0.60
GA | FANNIN | 13111 | 0.60
GA | MURRAY | 13213 | 0.60
GA | WALKER | 13295 | 0.60
GA | WHITFIELD | 13313 | 0.60
IN | CLARK | 18019 | 0.10
IN | CRAWFORD | 18025 | 0.10
IN | DAVIESS | 18027 | 0.10
IN | DUBOIS | 18037 | 0.10
IN | FLOYD | 18043 | 0.10
IN | GIBSON | 18051 | 0.10
IN | GREENE | 18055 | 0.10
IN | HARRISON | 18061 | 0.10
IN | KNOX | 18083 | 0.10
IN | MARTIN | 18101 | 0.10
IN | ORANGE | 18117 | 0.10
IN | PERRY | 18123 | 0.10
IN | PIKE | 18125 | 0.10
IN | POSEY | 18129 | 0.10
IN | SCOTT | 18143 | 0.10
IN | SPENCER | 18147 | 0.10
IN | SULLIVAN | 18153 | 0.10
IN | VANDERBURGH | 18163 | 0.10
IN | WARRICK | 18173 | 0.10
IN | WASHINGTON | 18175 | 0.10
KY | ADAIR | 21001 | 0.20
KY | ANDERSON | 21005 | 0.40
KY | BATH | 21011 | 0.40
KY | BELL | 21013 | 0.50
KY | BOURBON | 21017 | 0.40
KY | BOYLE | 21021 | 0.40
KY | BREATHITT | 21025 | 0.70
KY | BRECKINRIDGE | 21027 | 0.10
KY | BULLITT | 21029 | 0.10
KY | BUTLER | 21031 | 0.20
KY | CARROLL | 21041 | 0.10
KY | CARTER | 21043 | 0.40
KY | CASEY | 21045 | 0.20
KY | CLARK | 21049 | 0.40
KY | CLAY | 21051 | 0.50
KY | CLINTON | 21053 | 0.50
KY | CUMBERLAND | 21057 | 0.50
KY | DAVIESS | 21059 | 0.10
KY | EDMONSON | 21061 | 0.20
KY | ELLIOTT | 21063 | 0.40
KY | ESTILL | 21065 | 0.40
KY | FAYETTE | 21067 | 0.40
KY | FLEMING | 21069 | 0.40
KY | FRANKLIN | 21073 | 0.10
KY | GALLATIN | 21077 | 0.10
KY | GARRARD | 21079 | 0.40
KY | GRAYSON | 21085 | 0.20
KY | GREEN | 21087 | 0.20
KY | HANCOCK | 21091 | 0.10
KY | HARDIN | 21093 | 0.10
KY | HARLAN | 21095 | 0.50
KY | HART | 21099 | 0.20
KY | HENDERSON | 21101 | 0.10
KY | HENRY | 21103 | 0.10
KY | HOPKINS | 21107 | 0.20
KY | JACKSON | 21109 | 0.70
KY | JEFFERSON | 21111 | 0.10
KY | JESSAMINE | 21113 | 0.40
KY | KNOTT | 21119 | 0.50
KY | KNOX | 21121 | 0.50
KY | LARUE | 21123 | 0.40
KY | LAUREL | 21125 | 0.50
KY | LEE | 21129 | 0.40
KY | LESLIE | 21131 | 0.50
KY | LETCHER | 21133 | 0.50
KY | LINCOLN | 21137 | 0.40
KY | MC CREARY | 21147 | 0.50
KY | MC LEAN | 21149 | 0.40
KY | MADISON | 21151 | 0.40
KY | MARION | 21155 | 0.40
KY | MEADE | 21163 | 0.10
KY | MENIFEE | 21165 | 0.40
KY | MERCER | 21167 | 0.40
KY | MONTGOMERY | 21173 | 0.40
KY | MORGAN | 21175 | 0.40
KY | MUHLENBURG | 21177 | 0.20
KY | NELSON | 21179 | 0.10
KY | NICHOLAS | 21181 | 0.40
KY | OHIO | 21183 | 0.20
KY | OLDHAM | 21185 | 0.10
KY | OWEN | 21187 | 0.10
KY | OWSLEY | 21189 | 0.70
KY | PERRY | 21193 | 0.50
KY | POWELL | 21197 | 0.40
KY | PULASKI | 21199 | 0.50
KY | ROCKCASTLE | 21203 | 0.70
KY | ROWAN | 21205 | 0.40
KY | RUSSELL | 21207 | 0.50
KY | SCOTT | 21209 | 0.10
KY | SHELBY | 21211 | 0.10
KY | SPENCER | 21215 | 0.10
KY | TAYLOR | 21217 | 0.20
KY | TRIMBLE | 21223 | 0.10
KY | UNION | 21225 | 0.10
KY | WASHINGTON | 21229 | 0.40
KY | WAYNE | 21231 | 0.50
KY | WEBSTER | 21233 | 0.20
KY | WHITLEY | 21235 | 0.50
KY | WOLFE | 21237 | 0.40
KY | WOODFORD | 21239 | 0.40
NC | ALAMANCE | 37001 | 0.30
NC | ALEXANDER | 37003 | 0.45
NC | ALLEGHANY | 37005 | 0.45
NC | ANSON | 37007 | 0.50
NC | ASHE | 37009 | 0.45
NC | AVERY | 37011 | 0.45
NC | BEAUFORT | 37013 | 0.40
NC | BERTIE | 37015 | 0.20
NC | BLADEN | 37017 | 0.70
NC | BRUNSWICK | 37019 | 0.70
NC | BUNCOMBE | 37021 | 0.45
NC | BURKE | 37023 | 0.45
NC | CABARRUS | 37025 | 0.30
NC | CALDWELL | 37027 | 0.45
NC | CAMDEN | 37029 | 0.20
NC | CARTERET | 37031 | 0.40
NC | CASWELL | 37033 | 0.30
NC | CATAWBA | 37035 | 0.30
NC | CHATHAM | 37037 | 0.30
NC | CHEROKEE | 37039 | 0.45
NC | CHOWAN | 37041 | 0.20
NC | CLAY | 37043 | 0.45
NC | CLEVELAND | 37045 | 0.30
NC | COLUMBUS | 37047 | 0.70
NC | CRAVEN | 37049 | 0.40
NC | CUMBERLAND | 37051 | 0.30
NC | CURRITUCK | 37053 | 0.20
NC | DARE | 37055 | 0.40
NC | DAVIDSON | 37057 | 0.30
NC | DAVIE | 37059 | 0.30
NC | DUPLIN | 37061 | 0.30
NC | DURHAM | 37063 | 0.30
NC | EDGECOMBE | 37065 | 0.20
NC | FORSYTH | 37067 | 0.30
NC | FRANKLIN | 37069 | 0.30
NC | GASTON | 37071 | 0.30
NC | GATES | 37073 | 0.20
NC | GRAHAM | 37075 | 0.45
NC | GRANVILLE | 37077 | 0.30
NC | GREENE | 37079 | 0.40
NC | GUILFORD | 37081 | 0.30
NC | HALIFAX | 37083 | 0.30
NC | HARNETT | 37085 | 0.10
NC | HAYWOOD | 37087 | 0.45
NC | HENDERSON | 37089 | 0.45
NC | HERTFORD | 37091 | 0.20
NC | HOKE | 37093 | 0.30
NC | HYDE | 37095 | 0.40
NC | IREDELL | 37097 | 0.30
NC | JACKSON | 37099 | 0.45
NC | JOHNSTON | 37101 | 0.20
NC | JONES | 37103 | 0.40
NC | LEE | 37105 | 0.30
NC | LENOIR | 37107 | 0.40
NC | LINCOLN | 37109 | 0.30
NC | MC DOWELL | 37111 | 0.45
NC | MACON | 37113 | 0.45
NC | MADISON | 37115 | 0.45
NC | MARTIN | 37117 | 0.40
NC | MECKLENBURG | 37119 | 0.30
NC | MITCHELL | 37121 | 0.45
NC | MONTGOMERY | 37123 | 0.30
NC | MOORE | 37125 | 0.30
NC | NASH | 37127 | 0.30
NC | NEW HANOVER | 37129 | 0.70
NC | NORTHAMPTON | 37131 | 0.30
NC | ONSLOW | 37133 | 0.30
NC | ORANGE | 37135 | 0.30
NC | PAMLICO | 37137 | 0.40
NC | PASQUOTANK | 37139 | 0.20
NC | PENDER | 37141 | 0.70
NC | PERQUIMANS | 37143 | 0.20
NC | PERSON | 37145 | 0.30
NC | PITT | 37147 | 0.40
NC | POLK | 37149 | 0.30
NC | RANDOLPH | 37151 | 0.30
NC | RICHMOND | 37153 | 0.50
NC | ROBESON | 37155 | 0.70
NC | ROCKINGHAM | 37157 | 0.45
NC | ROWAN | 37159 | 0.30
NC | RUTHERFORD | 37161 | 0.30
NC | SAMPSON | 37163 | 0.30
NC | SCOTLAND | 37165 | 0.30
NC | STANLY | 37167 | 0.30
NC | STOKES | 37169 | 0.45
NC | SURRY | 37171 | 0.45
NC | SWAIN | 37173 | 0.45
NC | TRANSYLVANIA | 37175 | 0.45
NC | TYRRELL | 37177 | 0.40
NC | UNION | 37179 | 0.50
NC | VANCE | 37181 | 0.30
NC | WAKE | 37183 | 0.30
NC | WARREN | 37185 | 0.30
NC | WASHINGTON | 37187 | 0.40
NC | WATAUGA | 37189 | 0.45
NC | WAYNE | 37191 | 0.40
NC | WILKES | 37193 | 0.45
NC | WILSON | 37195 | 0.20
NC | YADKIN | 37197 | 0.30
NC | YANCEY | 37199 | 0.45
SC | ABBEVILLE | 45001 | 0.50
SC | AIKEN | 45003 | 0.70
SC | ALLENDALE | 45005 | 1.00
SC | ANDERSON | 45007 | 0.50
SC | BAMBERG | 45009 | 0.70
SC | BARNWELL | 45011 | 0.70
SC | BEAUFORT | 45013 | 1.00
SC | BERKELEY | 45015 | 1.00
SC | CALHOUN | 45017 | 0.70
SC | CHARLESTON | 45019 | 1.00
SC | CHEROKEE | 45021 | 0.50
SC | CHESTER | 45023 | 0.50
SC | CHESTERFIELD | 45025 | 0.30
SC | CLARENDON | 45027 | 0.70
SC | COLLETON | 45029 | 1.00
SC | DARLINGTON | 45031 | 0.70
SC | DILLON | 45033 | 0.70
SC | DORCHESTER | 45035 | 1.00
SC | EDGEFIELD | 45037 | 0.30
SC | FAIRFIELD | 45039 | 0.30
SC | FLORENCE | 45041 | 0.70
SC | GEORGETOWN | 45043 | 0.70
SC | GREENVILLE | 45045 | 0.50
SC | GREENWOOD | 45047 | 0.50
SC | HAMPTON | 45049 | 1.00
SC | HORRY | 45051 | 0.70
SC | JASPER | 45053 | 1.00
SC | KERSHAW | 45055 | 0.30
SC | LANCASTER | 45057 | 0.50
SC | LAURENS | 45059 | 0.50
SC | LEE | 45061 | 0.70
SC | LEXINGTON | 45063 | 0.70
SC | MC CORMICK | 45065 | 0.50
SC | MARION | 45067 | 0.70
SC | MARLBORO | 45069 | 0.70
SC | NEWBERRY | 45071 | 0.30
SC | OCONEE | 45073 | 0.50
SC | ORANGEBURG | 45075 | 0.70
SC | PICKENS | 45077 | 0.50
SC | RICHLAND | 45079 | 0.70
SC | SALUDA | 45081 | 0.30
SC | SPARTANBURG | 45083 | 0.50
SC | SUMTER | 45085 | 0.70
SC | UNION | 45087 | 0.50
SC | WILLIAMSBURG | 45089 | 0.70
SC | YORK | 45091 | 0.50
TN | ANDERSON | 47001 | 0.40
TN | BLOUNT | 47009 | 0.40
TN | BRADLEY | 47011 | 0.60
TN | CAMPBELL | 47013 | 0.40
TN | CARTER | 47019 | 0.40
TN | CLAIBORNE | 47025 | 0.40
TN | COCKE | 47029 | 0.40
TN | CUMBERLAND | 47035 | 0.40
TN | GRAINGER | 47057 | 0.40
TN | GREENE | 47059 | 0.40
TN | HAMBLEN | 47063 | 0.40
TN | HAMILTON | 47065 | 0.60
TN | HANCOCK | 47067 | 0.40
TN | HAWKINS | 47073 | 0.40
TN | JEFFERSON | 47089 | 0.40
TN | JOHNSON | 47091 | 0.40
TN | KNOX | 47093 | 0.40
TN | LOUDON | 47105 | 0.40
TN | MC MINN | 47107 | 0.60
TN | MARION | 47115 | 0.60
TN | MEIGS | 47121 | 0.60
TN | MONROE | 47123 | 0.60
TN | MORGAN | 47129 | 0.40
TN | POLK | 47139 | 0.60
TN | RHEA | 47143 | 0.40
TN | ROANE | 47145 | 0.40
TN | SCOTT | 47151 | 0.10
TN | SEQUATCHIE | 47153 | 0.40
TN | SEVIER | 47155 | 0.40
TN | SULLIVAN | 47163 | 0.40
TN | UNICOI | 47171 | 0.40
TN | UNION | 47173 | 0.40
TN | WASHINGTON | 47179 | 0.40
VA | ALLEGHANY | 51005 | 0.10
VA | AMHERST | 51009 | 0.40
VA | AUGUSTA | 51015 | 0.10
VA | BATH | 51017 | 0.10
VA | BEDFORD | 51019 | 0.40
VA | BLAND | 51021 | 0.40
VA | BOTETOURT | 51023 | 0.10
VA | BUCHANAN | 51027 | 0.10
VA | CAMPBELL | 51031 | 0.40
VA | CARROLL | 51035 | 0.40
VA | CRAIG | 51045 | 0.10
VA | DICKENSON | 51051 | 0.40
VA | FLOYD | 51063 | 0.40
VA | FRANKLIN | 51067 | 0.40
VA | GILES | 51071 | 0.10
VA | GRAYSON | 51077 | 0.40
VA | HENRY | 51089 | 0.40
VA | HIGHLAND | 51091 | 0.10
VA | LEE | 51105 | 0.40
VA | MONTGOMERY | 51121 | 0.40
VA | PATRICK | 51141 | 0.40
VA | PITTSYLVANIA | 51143 | 0.40
VA | PULASKI | 51155 | 0.40
VA | ROANOKE | 51161 | 0.40
VA | ROCKBRIDGE | 51163 | 0.10
VA | ROCKINGHAM | 51165 | 0.10
VA | RUSSELL | 51167 | 0.40
VA | SCOTT | 51169 | 0.40
VA | SMYTH | 51173 | 0.40
VA | TAZEWELL | 51185 | 0.40
VA | WASHINGTON | 51191 | 0.40
VA | WISE | 51195 | 0.40
VA | WYTHE | 51197 | 0.40
VA | BEDFORD CITY | 51515 | 0.40
VA | BRISTOL CITY | 51520 | 0.40
VA | BUENA VISTA CITY | 51530 | 0.10
VA | CLIFTON FORGE CITY | 51560 | 0.10
VA | COVINGTON CITY | 51580 | 0.10
VA | DANVILLE CITY | 51590 | 0.40
VA | GALAX CITY | 51640 | 0.40
VA | HARRISONBURG CITY | 51660 | 0.10
VA | LEXINGTON CITY | 51678 | 0.10
VA | LYNCHBURG CITY | 51680 | 0.40
VA | MARTINSVILLE CITY | 51690 | 0.40
VA | NORTON CITY | 51720 | 0.40
VA | RADFORD CITY | 51750 | 0.40
VA | ROANOKE CITY | 51770 | 0.40
VA | SALEM CITY | 51775 | 0.40
VA | STAUNTON CITY | 51790 | 0.10
VA | WAYNESBORO CITY | 51820 | 0.10
WV | MC DOWELL | 54047 | 0.10
WV | MERCER | 54055 | 0.10

5. In § 1005.81, paragraph (a) is revised to read as follows:

§ 1005.81 Payments to the transportation credit balancing fund.

(a) On or before the 12th day after the end of the month (except as provided in § 1000.90), each handler operating a pool plant and each handler specified in § 1000.9 (c) shall pay to the Market Administrator a transportation credit balancing fund assessment determined by multiplying the pounds of Class I producer milk assigned pursuant to § 1005.44 by $0.15 per hundredweight or such lesser amount as the Market Administrator deems necessary to maintain a balance in the fund equal to the total transportation credits disbursed during the prior June-February period. In the event that during any month of the June-February period the fund balance is insufficient to cover the amount of credits that are due, the assessment should be based upon the amount of credits that would have been disbursed had the fund balance been sufficient.

* * * * *

6. Section 1005.82 is amended by:

a. Revising paragraph (a)(1);

b. Revising paragraph (b);

c. Revising paragraph (c)(1);

d. Removing paragraph (c)(2)(i);

e. Redesignating paragraph (c)(2)(ii) as (c)(2)(i) and revise;

f. Redesignating paragraph (c)(2)(iii) as (c)(2)(ii);

g. Redesignating paragraph (c)(2)(iv) as (c)(2)(iii) and revising;

h. Revising paragraph (d)(2) (iii); and

i. Revising paragraph (d)(3)(v);

The revisions read as follows:

§ 1005.82 Payments from the transportation credit balancing fund.

(a) * * *

(1) On or before the 13th day (except as provided in § 1000.90) after the end of each of the months of January, February and July through December and any other month in which transportation credits are in effect pursuant to paragraph (b) of this section, the market administrator shall pay to each handler that received, and reported pursuant to § 1005.30(a)(5), bulk milk transferred from a plant fully regulated under another Federal order as described in paragraph (c)(1) of this section or that received, and reported pursuant to § 1005.30(a)(6), milk directly from producers” farms as specified in paragraph (c)(2) of this section, a preliminary amount determined pursuant to paragraph (d) of this section to the extent that funds are available in the transportation credit balancing fund. If an insufficient balance exists to pay all of the credits computed pursuant to this section, the market administrator shall distribute the balance available in the transportation credit balancing fund by reducing payments prorata using the percentage derived by dividing the balance in the fund by the total credits that are due for the month. The amount of credits resulting from this initial proration shall be subject to audit adjustment pursuant to paragraph (a)(2) of this section.

* * * * *

(b) The Market Administrator may extend the period during which transportation credits are in effect (i.e., the transportation credit period) to the month of June if a written request to do so is received 15 days prior to the beginning of the month for which the request is made and, after conducting an independent investigation, finds that such extension is necessary to assure the market of an adequate supply of milk for fluid use. Before making such a finding, the Market Administrator shall notify the Deputy Administrator of the Dairy Programs and all handlers in the market that an extension is being considered and invite written data, views, and arguments. Any decision to extend the transportation credit period must be issued in writing prior to the first day of the month for which the extension is to be effective.

(c) * * *

(1) Bulk milk received at a pool distributing plant from a plant regulated under another Federal order, except Federal Order 1007; and

(2) * * *

(i) The dairy farmer was not a “producer” under this order for more than 45 days during the immediately preceding months of March through May, or not more than 50 percent of the production of the dairy farmer during those 3 months, in aggregate, was received as producer milk under this order during those 3 months; and

(ii) * * *

(iii) The market administrator may increase or decrease the milk production standard specified in paragraph (c)(2)(i) of this section if the market administrator finds that such revision is necessary to assure orderly marketing and efficient handling of milk in the marketing area. Before making such a finding, the market administrator shall investigate the need for the revision either on the market administrator's own initiative or at the request of interested persons. If the investigation shows that a revision might be appropriate, the market administrator shall issue a notice stating that the revision is being considered and inviting written data, views, and arguments. Any decision to revise an applicable percentage must be issued in writing at least one day before the effective date.

(d) * * *

(2) * * *

(iii) Subtract the applicable Class I price specified in § 1000.50(a) for the county in which the shipping plant is located from the Class I price applicable for the county in which the receiving plant is located;

* * * * *

(3) * * *

(v) Subtract the Class I price specified in § 1000.50(a) applicable for the county in which the origination point is located from the Class I price applicable at the receiving pool plant's location;

* * * * *

PART 1006—MILK IN THE FLORIDA MARKETING AREA

7. Section 1006.51 is revised to read as follows:

§ 1006.51 Class I differential, adjustments to Class I prices, and Class I price.

(a) The Class I differential shall be the differential established for Hillsborough County, Florida, which is reported in § 1000.52. The Class I price shall be the price computed pursuant to § 1006.50(a) for Hillsborough County, Florida.

(b) Adjustment to Class I prices. Class I prices shall be established pursuant to § 1000.50(a), (b) and (c) using the following adjustments:

State | County/parish | FIPS | Class I price adjustment
FL | ALACHUA | 12001 | 1.30
FL | BAKER | 12003 | 1.30
FL | BAY | 12005 | 0.60
FL | BRADFORD | 12007 | 1.30
FL | BREVARD | 12009 | 1.40
FL | BROWARD | 12011 | 1.70
FL | CALHOUN | 12013 | 0.60
FL | CHARLOTTE | 12015 | 1.50
FL | CITRUS | 12017 | 1.40
FL | CLAY | 12019 | 1.30
FL | COLLIER | 12021 | 1.70
FL | COLUMBIA | 12023 | 1.30
FL | DADE | 12025 | 1.70
FL | DE SOTO | 12027 | 1.80
FL | DIXIE | 12029 | 1.30
FL | DUVAL | 12031 | 1.30
FL | FLAGLER | 12035 | 1.00
FL | FRANKLIN | 12037 | 0.90
FL | GADSDEN | 12039 | 0.90
FL | GILCHRIST | 12041 | 1.30
FL | GLADES | 12043 | 1.50
FL | GULF | 12045 | 0.90
FL | HAMILTON | 12047 | 1.30
FL | HARDEE | 12049 | 1.80
FL | HENDRY | 12051 | 1.70
FL | HERNANDO | 12053 | 1.40
FL | HIGHLANDS | 12055 | 1.80
FL | HILLSBOROUGH | 12057 | 1.40
FL | HOLMES | 12059 | 0.60
FL | INDIAN RIVER | 12061 | 1.80
FL | JACKSON | 12063 | 0.60
FL | JEFFERSON | 12065 | 0.90
FL | LAFAYETTE | 12067 | 1.30
FL | LAKE | 12069 | 1.40
FL | LEE | 12071 | 1.70
FL | LEON | 12073 | 0.90
FL | LEVY | 12075 | 1.00
FL | LIBERTY | 12077 | 0.90
FL | MADISON | 12079 | 1.30
FL | MANATEE | 12081 | 1.80
FL | MARION | 12083 | 1.00
FL | MARTIN | 12085 | 1.50
FL | MONROE | 12087 | 1.70
FL | NASSAU | 12089 | 1.30
FL | OKEECHOBEE | 12093 | 1.80
FL | ORANGE | 12095 | 1.40
FL | OSCEOLA | 12097 | 1.40
FL | PALM BEACH | 12099 | 1.70
FL | PASCO | 12101 | 1.40
FL | PINELLAS | 12103 | 1.40
FL | POLK | 12105 | 1.40
FL | PUTNAM | 12107 | 1.30
FL | SAINT JOHNS | 12109 | 1.30
FL | SAINT LUCIE | 12111 | 1.80
FL | SARASOTA | 12115 | 1.80
FL | SEMINOLE | 12117 | 1.40
FL | SUMTER | 12119 | 1.40
FL | SUWANNEE | 12121 | 1.30
FL | TAYLOR | 12123 | 1.30
FL | UNION | 12125 | 1.30
FL | VOLUSIA | 12127 | 1.40
FL | WAKULLA | 12129 | 0.90
FL | WASHINGTON | 12133 | 0.60

PART—1007 MILK IN THE SOUTHEAST MARKETING AREA

8. In § 1007.13, paragraphs (d)(1) through (4) are revised to read as follows:

§ 1007.13 Producer Milk.

* * * * *

(d) * * *

(1) In any month of January through June, not less than 1 days' production of the producer whose milk is diverted is physically received at a pool plant during the month;

(2) In any month of July through December, not less than 1 days' production of the producer whose milk is diverted is physically received at a pool plant during the month;

(3) The total quantity of milk so diverted during the month by a cooperative association shall not exceed 25 percent during the months of July through November, January, and February, and 35 percent during the months of December and March through June, of the producer milk that the cooperative association caused to be delivered to, and physically received at, pool plants during the month;

(4) The operator of a pool plant that is not a cooperative association may divert any milk that is not under the control of a cooperative association that diverts milk during the month pursuant to paragraph (d) of this section. The total quantity of milk so diverted during the month shall not exceed 25 percent during the months of July through November, January, and February, and 35 percent during the months of December and March through June of the producer milk physically received at such plant (or such unit of plants in the case of plants that pool as a unit pursuant to § 1007.7(e)) during the month, excluding the quantity of producer milk received from a handler described in § 1000.9(c);

* * * * *

9. Section 1007.51 is revised to read as follows:

§ 1007.51 Class I differential, adjustments to Class I prices, and Class I price.

(a) The Class I differential shall be the differential established for Fulton County, Georgia, which is reported in § 1000.52. The Class I price shall be the price computed pursuant to § 1007.50(a) for Fulton County, Georgia.

(b) Adjustment to Class I prices. Class I prices shall be established pursuant to § 1000.50(a), (b) and (c) using the following adjustments:

State | Country/parish | FIPS | Class I price adjustment
AL | AUTAUGA | 01001 | 0.50
AL | BALDWIN | 01003 | 0.50
AL | BARBOUR | 01005 | 0.55
AL | BIBB | 01007 | 0.30
AL | BLOUNT | 01009 | 0.20
AL | BULLOCK | 01011 | 0.70
AL | BUTLER | 01013 | 0.55
AL | CALHOUN | 01015 | 0.30
AL | CHAMBERS | 01017 | 0.70
AL | CHEROKEE | 01019 | 0.30
AL | CHILTON | 01021 | 0.70
AL | CHOCTAW | 01023 | 0.50
AL | CLARKE | 01025 | 0.35
AL | CLAY | 01027 | 0.70
AL | CLEBURNE | 01029 | 0.70
AL | COFFEE | 01031 | 0.85
AL | COLBERT | 01033 | 0.30
AL | CONECUH | 01035 | 0.55
AL | COOSA | 01037 | 0.70
AL | COVINGTON | 01039 | 0.55
AL | CRENSHAW | 01041 | 0.55
AL | CULLMAN | 01043 | 0.20
AL | DALE | 01045 | 0.85
AL | DALLAS | 01047 | 0.50
AL | DE KALB | 01049 | 0.40
AL | ELMORE | 01051 | 0.50
AL | ESCAMBIA | 01053 | 0.55
AL | ETOWAH | 01055 | 0.30
AL | FAYETTE | 01057 | 0.20
AL | FRANKLIN | 01059 | 0.30
AL | GENEVA | 01061 | 0.85
AL | GREENE | 01063 | 0.30
AL | HALE | 01065 | 0.30
AL | HENRY | 01067 | 0.85
AL | HOUSTON | 01069 | 0.85
AL | JACKSON | 01071 | 0.40
AL | JEFFERSON | 01073 | 0.30
AL | LAMAR | 01075 | 0.20
AL | LAUDERDALE | 01077 | 0.30
AL | LAWRENCE | 01079 | 0.30
AL | LEE | 01081 | 0.70
AL | LIMESTONE | 01083 | 0.30
AL | LOWNDES | 01085 | 0.70
AL | MACON | 01087 | 0.70
AL | MADISON | 01089 | 0.30
AL | MARENGO | 01091 | 0.50
AL | MARION | 01093 | 0.20
AL | MARSHALL | 01095 | 0.40
AL | MOBILE | 01097 | 0.50
AL | MONROE | 01099 | 0.35
AL | MONTGOMERY | 01101 | 0.70
AL | MORGAN | 01103 | 0.30
AL | PERRY | 01105 | 0.30
AL | PICKENS | 01107 | 0.30
AL | PIKE | 01109 | 0.55
AL | RANDOLPH | 01111 | 0.70
AL | RUSSELL | 01113 | 0.70
AL | SAINT CLAIR | 01115 | 0.30
AL | SHELBY | 01117 | 0.30
AL | SUMTER | 01119 | 0.30
AL | TALLADEGA | 01121 | 0.30
AL | TALLAPOOSA | 01123 | 0.70
AL | TUSCALOOSA | 01125 | 0.30
AL | WALKER | 01127 | 0.20
AL | WASHINGTON | 01129 | 0.35
AL | WILCOX | 01131 | 0.50
AL | WINSTON | 01133 | 0.20
AR | ARKANSAS | 05001 | 0.00
AR | ASHLEY | 05003 | 0.10
AR | BAXTER | 05005 | 0.10
AR | BENTON | 05007 | 0.10
AR | BOONE | 05009 | 0.10
AR | BRADLEY | 05011 | 0.30
AR | CALHOUN | 05013 | 0.30
AR | CARROLL | 05015 | 0.10
AR | CHICOT | 05017 | 0.10
AR | CLARK | 05019 | 0.00
AR | CLAY | 05021 | 0.10
AR | CLEBURNE | 05023 | 0.10
AR | CLEVELAND | 05025 | 0.30
AR | COLUMBIA | 05027 | 0.10
AR | CONWAY | 05029 | 0.10
AR | CRAIGHEAD | 05031 | 0.10
AR | CRAWFORD | 05033 | 0.10
AR | CRITTENDEN | 05035 | 0.10
AR | CROSS | 05037 | 0.10
AR | DALLAS | 05039 | 0.00
AR | DESHA | 05041 | 0.30
AR | DREW | 05043 | 0.30
AR | FAULKNER | 05045 | 0.10
AR | FRANKLIN | 05047 | 0.10
AR | FULTON | 05049 | 0.10
AR | GARLAND | 05051 | 0.10
AR | GRANT | 05053 | 0.00
AR | GREENE | 05055 | 0.10
AR | HEMPSTEAD | 05057 | 0.30
AR | HOT SPRING | 05059 | 0.00
AR | HOWARD | 05061 | 0.00
AR | INDEPENDENCE | 05063 | 0.10
AR | IZARD | 05065 | 0.10
AR | JACKSON | 05067 | 0.10
AR | JEFFERSON | 05069 | 0.00
AR | JOHNSON | 05071 | 0.10
AR | LAFAYETTE | 05073 | 0.10
AR | LAWRENCE | 05075 | 0.10
AR | LEE | 05077 | 0.10
AR | LINCOLN | 05079 | 0.30
AR | LITTLE RIVER | 05081 | 0.30
AR | LOGAN | 05083 | 0.10
AR | LONOKE | 05085 | 0.10
AR | MADISON | 05087 | 0.10
AR | MARION | 05089 | 0.10
AR | MILLER | 05091 | 0.10
AR | MISSISSIPPI | 05093 | 0.30
AR | MONROE | 05095 | 0.10
AR | MONTGOMERY | 05097 | 0.10
AR | NEVADA | 05099 | 0.30
AR | NEWTON | 05101 | 0.10
AR | OUACHITA | 05103 | 0.30
AR | PERRY | 05105 | 0.10
AR | PHILLIPS | 05107 | 0.00
AR | PIKE | 05109 | 0.00
AR | POINSETT | 05111 | 0.30
AR | POLK | 05113 | 0.10
AR | POPE | 05115 | 0.10
AR | PRAIRIE | 05117 | 0.10
AR | PULASKI | 05119 | 0.10
AR | RANDOLPH | 05121 | 0.10
AR | SAINT FRANCIS | 05123 | 0.10
AR | SALINE | 05125 | 0.10
AR | SCOTT | 05127 | 0.10
AR | SEARCY | 05129 | 0.10
AR | SEBASTIAN | 05131 | 0.10
AR | SEVIER | 05133 | 0.00
AR | SHARP | 05135 | 0.10
AR | STONE | 05137 | 0.10
AR | UNION | 05139 | 0.10
AR | VAN BUREN | 05141 | 0.10
AR | WASHINGTON | 05143 | 0.10
AR | WHITE | 05145 | 0.10
AR | WOODRUFF | 05147 | 0.10
AR | YELL | 05149 | 0.10
FL | ESCAMBIA | 12033 | 0.55
FL | OKALOOSA | 12091 | 0.55
FL | SANTA ROSA | 12113 | 0.55
FL | WALTON | 12131 | 0.55
GA | APPLING | 13001 | 1.15
GA | ATKINSON | 13003 | 1.15
GA | BACON | 13005 | 1.15
GA | BAKER | 13007 | 0.85
GA | BALDWIN | 13009 | 0.70
GA | BANKS | 13011 | 0.70
GA | BARROW | 13013 | 0.70
GA | BARTOW | 13015 | 0.30
GA | BEN HILL | 13017 | 1.15
GA | BERRIEN | 13019 | 1.15
GA | BIBB | 13021 | 0.70
GA | BLECKLEY | 13023 | 1.00
GA | BRANTLEY | 13025 | 1.15
GA | BROOKS | 13027 | 1.15
GA | BRYAN | 13029 | 1.15
GA | BULLOCH | 13031 | 1.00
GA | BURKE | 13033 | 0.70
GA | BUTTS | 13035 | 0.70
GA | CALHOUN | 13037 | 0.85
GA | CAMDEN | 13039 | 1.15
GA | CANDLER | 13043 | 1.00
GA | CARROLL | 13045 | 0.70
GA | CHARLTON | 13049 | 1.15
GA | CHATHAM | 13051 | 1.15
GA | CHATTAHOOCHEE | 13053 | 0.70
GA | CHEROKEE | 13057 | 0.30
GA | CLARKE | 13059 | 0.70
GA | CLAY | 13061 | 0.85
GA | CLAYTON | 13063 | 0.70
GA | CLINCH | 13065 | 1.15
GA | COBB | 13067 | 0.70
GA | COFFEE | 13069 | 1.15
GA | COLQUITT | 13071 | 1.15
GA | COLUMBIA | 13073 | 0.70
GA | COOK | 13075 | 1.15
GA | COWETA | 13077 | 0.70
GA | CRAWFORD | 13079 | 0.70
GA | CRISP | 13081 | 0.85
GA | DAWSON | 13085 | 0.30
GA | DECATUR | 13087 | 1.15
GA | DE KALB | 13089 | 0.70
GA | DODGE | 13091 | 0.85
GA | DOOLY | 13093 | 0.85
GA | DOUGHERTY | 13095 | 0.85
GA | DOUGLAS | 13097 | 0.70
GA | EARLY | 13099 | 0.85
GA | ECHOLS | 13101 | 1.15
GA | EFFINGHAM | 13103 | 1.00
GA | ELBERT | 13105 | 0.70
GA | EMANUEL | 13107 | 1.00
GA | EVANS | 13109 | 1.15
GA | FAYETTE | 13113 | 0.70
GA | FLOYD | 13115 | 0.30
GA | FORSYTH | 13117 | 0.70
GA | FRANKLIN | 13119 | 0.70
GA | FULTON | 13121 | 0.70
GA | GILMER | 13123 | 0.30
GA | GLASCOCK | 13125 | 0.90
GA | GLYNN | 13127 | 1.15
GA | GORDON | 13129 | 0.30
GA | GRADY | 13131 | 1.15
GA | GREENE | 13133 | 0.70
GA | GWINNETT | 13135 | 0.70
GA | HABERSHAM | 13137 | 0.30
GA | HALL | 13139 | 0.70
GA | HANCOCK | 13141 | 0.70
GA | HARALSON | 13143 | 0.70
GA | HARRIS | 13145 | 0.70
GA | HART | 13147 | 0.70
GA | HEARD | 13149 | 0.70
GA | HENRY | 13151 | 0.70
GA | HOUSTON | 13153 | 0.70
GA | IRWIN | 13155 | 1.15
GA | JACKSON | 13157 | 0.70
GA | JASPER | 13159 | 0.70
GA | JEFF DAVIS | 13161 | 1.15
GA | JEFFERSON | 13163 | 0.70
GA | JENKINS | 13165 | 1.00
GA | JOHNSON | 13167 | 1.00
GA | JONES | 13169 | 0.70
GA | LAMAR | 13171 | 0.70
GA | LANIER | 13173 | 1.15
GA | LAURENS | 13175 | 1.00
GA | LEE | 13177 | 0.85
GA | LIBERTY | 13179 | 1.15
GA | LINCOLN | 13181 | 0.70
GA | LONG | 13183 | 1.15
GA | LOWNDES | 13185 | 1.15
GA | LUMPKIN | 13187 | 0.30
GA | MC DUFFIE | 13189 | 0.70
GA | MC INTOSH | 13191 | 1.15
GA | MACON | 13193 | 0.70
GA | MADISON | 13195 | 0.70
GA | MARION | 13197 | 0.70
GA | MERIWETHER | 13199 | 0.70
GA | MILLER | 13201 | 0.85
GA | MITCHELL | 13205 | 1.15
GA | MONROE | 13207 | 0.70
GA | MONTGOMERY | 13209 | 1.15
GA | MORGAN | 13211 | 0.70
GA | MUSCOGEE | 13215 | 0.70
GA | NEWTON | 13217 | 0.70
GA | OCONEE | 13219 | 0.70
GA | OGLETHORPE | 13221 | 0.70
GA | PAULDING | 13223 | 0.70
GA | PEACH | 13225 | 0.70
GA | PICKENS | 13227 | 0.30
GA | PIERCE | 13229 | 1.15
GA | PIKE | 13231 | 0.70
GA | POLK | 13233 | 0.70
GA | PULASKI | 13235 | 0.85
GA | PUTNAM | 13237 | 0.70
GA | QUITMAN | 13239 | 0.85
GA | RABUN | 13241 | 0.30
GA | RANDOLPH | 13243 | 0.85
GA | RICHMOND | 13245 | 0.70
GA | ROCKDALE | 13247 | 0.70
GA | SCHLEY | 13249 | 0.70
GA | SCREVEN | 13251 | 1.00
GA | SEMINOLE | 13253 | 1.15
GA | SPALDING | 13255 | 0.70
GA | STEPHENS | 13257 | 0.30
GA | STEWART | 13259 | 0.55
GA | SUMTER | 13261 | 0.85
GA | TALBOT | 13263 | 0.70
GA | TALIAFERRO | 13265 | 0.70
GA | TATTNALL | 13267 | 1.15
GA | TAYLOR | 13269 | 0.70
GA | TELFAIR | 13271 | 1.15
GA | TERRELL | 13273 | 0.85
GA | THOMAS | 13275 | 1.15
GA | TIFT | 13277 | 1.15
GA | TOOMBS | 13279 | 1.15
GA | TOWNS | 13281 | 0.30
GA | TREUTLEN | 13283 | 1.00
GA | TROUP | 13285 | 0.70
GA | TURNER | 13287 | 0.85
GA | TWIGGS | 13289 | 0.70
GA | UNION | 13291 | 0.30
GA | UPSON | 13293 | 0.70
GA | WALTON | 13297 | 0.70
GA | WARE | 13299 | 1.15
GA | WARREN | 13301 | 0.70
GA | WASHINGTON | 13303 | 0.70
GA | WAYNE | 13305 | 1.15
GA | WEBSTER | 13307 | 0.55
GA | WHEELER | 13309 | 1.15
GA | WHITE | 13311 | 0.30
GA | WILCOX | 13315 | 0.85
GA | WILKES | 13317 | 0.70
GA | WILKINSON | 13319 | 0.70
GA | WORTH | 13321 | 0.85
KY | ALLEN | 21003 | 0.20
KY | BALLARD | 21007 | 0.30
KY | BARREN | 21009 | 0.20
KY | CALDWELL | 21033 | 0.20
KY | CALLOWAY | 21035 | 0.30
KY | CARLISLE | 21039 | 0.30
KY | CHRISTIAN | 21047 | 0.20
KY | CRITTENDEN | 21055 | 0.20
KY | FULTON | 21075 | 0.30
KY | GRAVES | 21083 | 0.30
KY | HICKMAN | 21105 | 0.30
KY | LIVINGSTON | 21139 | 0.30
KY | LOGAN | 21141 | 0.20
KY | LYON | 21143 | 0.20
KY | MC CRACKEN | 21145 | 0.30
KY | MARSHALL | 21157 | 0.30
KY | METCALFE | 21169 | 0.20
KY | MONROE | 21171 | 0.50
KY | SIMPSON | 21213 | 0.20
KY | TODD | 21219 | 0.20
KY | TRIGG | 21221 | 0.20
KY | WARREN | 21227 | 0.20
LA | ACADIA | 22001 | 0.30
LA | ALLEN | 22003 | 0.30
LA | ASCENSION | 22005 | 0.20
LA | ASSUMPTION | 22007 | 0.20
LA | AVOYELLES | 22009 | 0.00
LA | BEAUREGARD | 22011 | 0.30
LA | BIENVILLE | 22013 | 0.00
LA | BOSSIER | 22015 | 0.10
LA | CADDO | 22017 | 0.10
LA | CALCASIEU | 22019 | 0.30
LA | CALDWELL | 22021 | 0.00
LA | CAMERON | 22023 | 0.20
LA | CATAHOULA | 22025 | 0.00
LA | CLAIBORNE | 22027 | 0.10
LA | CONCORDIA | 22029 | 0.00
LA | DE SOTO | 22031 | 0.00
LA | EAST BATON ROUGE | 22033 | 0.20
LA | EAST CARROLL | 22035 | 0.20
LA | EAST FELICIANA | 22037 | 0.30
LA | EVANGELINE | 22039 | 0.30
LA | FRANKLIN | 22041 | 0.00
LA | GRANT | 22043 | 0.00
LA | IBERIA | 22045 | 0.20
LA | IBERVILLE | 22047 | 0.20
LA | JACKSON | 22049 | 0.00
LA | JEFFERSON | 22051 | 0.20
LA | JEFFERSON DAVIS | 22053 | 0.30
LA | LAFAYETTE | 22055 | 0.20
LA | LAFOURCHE | 22057 | 0.20
LA | LA SALLE | 22059 | 0.00
LA | LINCOLN | 22061 | 0.10
LA | LIVINGSTON | 22063 | 0.20
LA | MADISON | 22065 | 0.00
LA | MOREHOUSE | 22067 | 0.10
LA | NATCHITOCHES | 22069 | 0.00
LA | ORLEANS | 22071 | 0.20
LA | OUACHITA | 22073 | 0.10
LA | PLAQUEMINES | 22075 | 0.20
LA | POINTE COUPEE | 22077 | 0.30
LA | RAPIDES | 22079 | 0.00
LA | RED RIVER | 22081 | 0.00
LA | RICHLAND | 22083 | 0.20
LA | SABINE | 22085 | 0.00
LA | SAINT BERNARD | 22087 | 0.20
LA | SAINT CHARLES | 22089 | 0.20
LA | SAINT HELENA | 22091 | 0.30
LA | SAINT JAMES | 22093 | 0.20
LA | SAINT JOHN THE BAPTIST | 22095 | 0.20
LA | SAINT LANDRY | 22097 | 0.30
LA | SAINT MARTIN | 22099 | 0.20
LA | SAINT MARY | 22101 | 0.20
LA | SAINT TAMMANY | 22103 | 0.30
LA | TANGIPAHOA | 22105 | 0.20
LA | TENSAS | 22107 | 0.00
LA | TERREBONNE | 22109 | 0.20
LA | UNION | 22111 | 0.10
LA | VERMILION | 22113 | 0.20
LA | VERNON | 22115 | 0.00
LA | WASHINGTON | 22117 | 0.30
LA | WEBSTER | 22119 | 0.10
LA | WEST BATON ROUGE | 22121 | 0.20
LA | WEST CARROLL | 22123 | 0.10
LA | WEST FELICIANA | 22125 | 0.30
LA | WINN | 22127 | 0.00
MS | ADAMS | 28001 | 0.00
MS | ALCORN | 28003 | 0.30
MS | AMITE | 28005 | 0.40
MS | ATTALA | 28007 | 0.20
MS | BENTON | 28009 | 0.30
MS | BOLIVAR | 28011 | 0.10
MS | CALHOUN | 28013 | 0.10
MS | CARROLL | 28015 | 0.20
MS | CHICKASAW | 28017 | 0.10
MS | CHOCTAW | 28019 | 0.20
MS | CLAIBORNE | 28021 | 0.10
MS | CLARKE | 28023 | 0.50
MS | CLAY | 28025 | 0.20
MS | COAHOMA | 28027 | 0.30
MS | COPIAH | 28029 | 0.10
MS | COVINGTON | 28031 | 0.00
MS | DE SOTO | 28033 | 0.00
MS | FORREST | 28035 | 0.40
MS | FRANKLIN | 28037 | 0.00
MS | GEORGE | 28039 | 0.40
MS | GREENE | 28041 | 0.40
MS | GRENADA | 28043 | 0.10
MS | HANCOCK | 28045 | 0.30
MS | HARRISON | 28047 | 0.30
MS | HINDS | 28049 | 0.00
MS | HOLMES | 28051 | 0.20
MS | HUMPHREYS | 28053 | 0.20
MS | ISSAQUENA | 28055 | 0.20
MS | ITAWAMBA | 28057 | 0.30
MS | JACKSON | 28059 | 0.30
MS | JASPER | 28061 | 0.10
MS | JEFFERSON | 28063 | 0.00
MS | JEFFERSON DAVIS | 28065 | 0.00
MS | JONES | 28067 | 0.40
MS | KEMPER | 28069 | 0.30
MS | LAFAYETTE | 28071 | 0.30
MS | LAMAR | 28073 | 0.40
MS | LAUDERDALE | 28075 | 0.10
MS | LAWRENCE | 28077 | 0.00
MS | LEAKE | 28079 | 0.20
MS | LEE | 28081 | 0.30
MS | LEFLORE | 28083 | 0.10
MS | LINCOLN | 28085 | 0.00
MS | LOWNDES | 28087 | 0.20
MS | MADISON | 28089 | 0.20
MS | MARION | 28091 | 0.40
MS | MARSHALL | 28093 | 0.00
MS | MONROE | 28095 | 0.20
MS | MONTGOMERY | 28097 | 0.20
MS | NESHOBA | 28099 | 0.20
MS | NEWTON | 28101 | 0.10
MS | NOXUBEE | 28103 | 0.30
MS | OKTIBBEHA | 28105 | 0.20
MS | PANOLA | 28107 | 0.30
MS | PEARL RIVER | 28109 | 0.40
MS | PERRY | 28111 | 0.40
MS | PIKE | 28113 | 0.40
MS | PONTOTOC | 28115 | 0.30
MS | PRENTISS | 28117 | 0.30
MS | QUITMAN | 28119 | 0.30
MS | RANKIN | 28121 | 0.10
MS | SCOTT | 28123 | 0.10
MS | SHARKEY | 28125 | 0.20
MS | SIMPSON | 28127 | 0.10
MS | SMITH | 28129 | 0.10
MS | STONE | 28131 | 0.40
MS | SUNFLOWER | 28133 | 0.10
MS | TALLAHATCHIE | 28135 | 0.10
MS | TATE | 28137 | 0.00
MS | TIPPAH | 28139 | 0.30
MS | TISHOMINGO | 28141 | 0.30
MS | TUNICA | 28143 | 0.00
MS | UNION | 28145 | 0.30
MS | WALTHALL | 28147 | 0.40
MS | WARREN | 28149 | 0.00
MS | WASHINGTON | 28151 | 0.10
MS | WAYNE | 28153 | 0.40
MS | WEBSTER | 28155 | 0.20
MS | WILKINSON | 28157 | 0.40
MS | WINSTON | 28159 | 0.20
MS | YALOBUSHA | 28161 | 0.10
MS | YAZOO | 28163 | 0.20
MO | BARRY | 29009 | 0.20
MO | BARTON | 29011 | 0.20
MO | BOLLINGER | 29017 | 0.20
MO | BUTLER | 29023 | 0.20
MO | CAPE GIRARDEAU | 29031 | 0.20
MO | CARTER | 29035 | 0.20
MO | CEDAR | 29039 | 0.20
MO | CHRISTIAN | 29043 | 0.20
MO | CRAWFORD | 29055 | 0.40
MO | DADE | 29057 | 0.20
MO | DALLAS | 29059 | 0.20
MO | DENT | 29065 | 0.40
MO | DOUGLAS | 29067 | 0.20
MO | DUNKLIN | 29069 | 0.50
MO | GREENE | 29077 | 0.20
MO | HOWELL | 29091 | 0.20
MO | IRON | 29093 | 0.40
MO | JASPER | 29097 | 0.20
MO | LACLEDE | 29105 | 0.20
MO | LAWRENCE | 29109 | 0.20
MO | MC DONALD | 29119 | 0.20
MO | MADISON | 29123 | 0.20
MO | MISSISSIPPI | 29133 | 0.50
MO | NEW MADRID | 29143 | 0.50
MO | NEWTON | 29145 | 0.20
MO | OREGON | 29149 | 0.20
MO | OZARK | 29153 | 0.20
MO | PEMISCOT | 29155 | 0.50
MO | PERRY | 29157 | 0.20
MO | POLK | 29167 | 0.20
MO | REYNOLDS | 29179 | 0.20
MO | RIPLEY | 29181 | 0.20
MO | SAINT FRANCOIS | 29187 | 0.40
MO | SCOTT | 29201 | 0.20
MO | SHANNON | 29203 | 0.20
MO | STODDARD | 29207 | 0.20
MO | STONE | 29209 | 0.20
MO | TANEY | 29213 | 0.20
MO | TEXAS | 29215 | 0.20
MO | VERNON | 29217 | 0.20
MO | WASHINGTON | 29221 | 0.40
MO | WAYNE | 29223 | 0.20
MO | WEBSTER | 29225 | 0.20
MO | WRIGHT | 29229 | 0.20
TN | BEDFORD | 47003 | 0.30
TN | BENTON | 47005 | 0.30
TN | BLEDSOE | 47007 | 0.60
TN | CANNON | 47015 | 0.30
TN | CARROLL | 47017 | 0.10
TN | CHEATHAM | 47021 | 0.30
TN | CHESTER | 47023 | 0.10
TN | CLAY | 47027 | 0.30
TN | COFFEE | 47031 | 0.60
TN | CROCKETT | 47033 | 0.30
TN | DAVIDSON | 47037 | 0.30
TN | DECATUR | 47039 | 0.30
TN | DE KALB | 47041 | 0.30
TN | DICKSON | 47043 | 0.30
TN | DYER | 47045 | 0.10
TN | FAYETTE | 47047 | 0.10
TN | FENTRESS | 47049 | 0.30
TN | FRANKLIN | 47051 | 0.40
TN | GIBSON | 47053 | 0.10
TN | GILES | 47055 | 0.40
TN | GRUNDY | 47061 | 0.60
TN | HARDEMAN | 47069 | 0.10
TN | HARDIN | 47071 | 0.10
TN | HAYWOOD | 47075 | 0.30
TN | HENDERSON | 47077 | 0.30
TN | HENRY | 47079 | 0.10
TN | HICKMAN | 47081 | 0.30
TN | HOUSTON | 47083 | 0.30
TN | HUMPHREYS | 47085 | 0.30
TN | JACKSON | 47087 | 0.30
TN | LAKE | 47095 | 0.10
TN | LAUDERDALE | 47097 | 0.30
TN | LAWRENCE | 47099 | 0.40
TN | LEWIS | 47101 | 0.30
TN | LINCOLN | 47103 | 0.40
TN | MC NAIRY | 47109 | 0.10
TN | MACON | 47111 | 0.30
TN | MADISON | 47113 | 0.30
TN | MARSHALL | 47117 | 0.30
TN | MAURY | 47119 | 0.30
TN | MONTGOMERY | 47125 | 0.30
TN | MOORE | 47127 | 0.40
TN | OBION | 47131 | 0.10
TN | OVERTON | 47133 | 0.30
TN | PERRY | 47135 | 0.30
TN | PICKETT | 47137 | 0.30
TN | PUTNAM | 47141 | 0.30
TN | ROBERTSON | 47147 | 0.30
TN | RUTHERFORD | 47149 | 0.30
TN | SHELBY | 47157 | 0.10
TN | SMITH | 47159 | 0.30
TN | STEWART | 47161 | 0.30
TN | SUMNER | 47165 | 0.30
TN | TIPTON | 47167 | 0.10
TN | TROUSDALE | 47169 | 0.30
TN | VAN BUREN | 47175 | 0.60
TN | WARREN | 47177 | 0.60
TN | WAYNE | 47181 | 0.40
TN | WEAKLEY | 47183 | 0.10
TN | WHITE | 47185 | 0.30
TN | WILLIAMSON | 47187 | 0.30
TN | WILSON | 47189 | 0.30

10. In § 1007.81 paragraph (a) is revised to read as follows:

§ 1007.81 Payments to the transportation credit balancing fund.

(a) On or before the 12th day after the end of the month (except as provided in § 1000.90), each handler operating a pool plant and each handler specified in § 1000.9 (c) shall pay to the market administrator a transportation credit balancing fund assessment determined by multiplying the pounds of Class I producer milk assigned pursuant to § 1007.44 by $0.30 per hundredweight or such lesser amount as the market administrator deems necessary to maintain a balance in the fund equal to the total transportation credits disbursed during the prior June-February period to reflect any changes in the current mileage rate versus the mileage rate(s) in effect during the prior June-February period. In the event that during any month of the June-February period the fund balance is insufficient to cover the amount of credits that are due, the assessment should be based upon the amount of credits that would have been disbursed had the fund balance been sufficient.

* * * * *

11. Section 1007.82 is amended by:

a. Revising paragraph (a)(1);

b. Revising paragraph (b);

c. Revising paragraph (c)(1);

d. Removing paragraph (c)(2)(i);

e. Redesignating paragraph (c)(2)(ii) as (c)(2)(i) and revising;

f. Redesignating paragraph (c)(2)(iii) as (c)(2)(ii); and

g. Redesignating paragraph (c)(2)(iv) as (c)(2)(iii) and revising;

h. Revising paragraph (d)(2) (iii); and

i. Revising paragraph (d)(3)(v);

The revisions read as follows:

§ 1007.82 Payments from the transportation credit balancing fund.

(a) * * *

(1) On or before the 13th day (except as provided in § 1000.90) after the end of each of the months of January, February and July through December and any other month in which transportation credits are in effect pursuant to paragraph (b) of this section, the market administrator shall pay to each handler that received, and reported pursuant to § 1007.30(a)(5), bulk milk transferred from a plant fully regulated under another Federal order as described in paragraph (c)(1) of this section or that received, and reported pursuant to § 1007.30(a)(6), milk directly from producers' farms as specified in paragraph (c)(2) of this section, a preliminary amount determined pursuant to paragraph (d) of this section to the extent that funds are available in the transportation credit balancing fund. If an insufficient balance exists to pay all of the credits computed pursuant to this section, the market administrator shall distribute the balance available in the transportation credit balancing fund by reducing payments pro rata using the percentage derived by dividing the balance in the fund by the total credits that are due for the month. The amount of credits resulting from this initial proration shall be subject to audit adjustment pursuant to paragraph (a)(2) of this section.

* * * * *

(b) The market administrator may extend the period during which transportation credits are in effect (i.e., the transportation credit period) to the month of June if a written request to do so is received 15 days prior to the beginning of the month for which the request is made and, after conducting an independent investigation, finds that such extension is necessary to assure the market of an adequate supply of milk for fluid use. Before making such a finding, the market administrator shall notify the Deputy Administrator of Dairy Programs and all handlers in the market that an extension is being considered and invite written data, views, and arguments. Any decision to extend the transportation credit period must be issued in writing prior to the first day of the month for which the extension is to be effective.

(c) * * *

(1) Bulk milk received at a pool distributing plant from a plant regulated under another Federal order, except Federal Order 1005; and

(2) * * *

(i) The dairy farmer was not a “producer” under this order for more than 45 days during the immediately preceding months of March through May, or not more than 50 percent of the production of the dairy farmer during those 3 months, in aggregate, was received as producer milk under this order during those 3 months; and

(ii) * * *

(iii) The market administrator may increase or decrease the milk production standard specified in paragraph (c)(2)(i) of this section if the market administrator finds that such revision is necessary to assure orderly marketing and efficient handling of milk in the marketing area. Before making such a finding, the market administrator shall investigate the need for the revision either on the market administrator's own initiative or at the request of interested persons. If the investigation shows that a revision might be appropriate, the market administrator shall issue a notice stating that the revision is being considered and inviting written data, views, and arguments. Any decision to revise an applicable percentage must be issued in writing at least one day before the effective date.

(d) * * *

(2) * * *

(iii) Subtract the applicable Class I price specified in § 1000.50(a) for the county in which the shipping plant is located from the Class I price applicable for the county in which the receiving plant is located;

* * * * *

(3) * * *

(v) Subtract the Class I price specified in § 1000.50(a) applicable for the county in which the origination point is located from the Class I price applicable at the receiving pool plant's location;

* * * * *

Dated: March 12, 2008.
Lloyd C. Day,
Administrator, Agricultural Marketing Service.

[FR Doc. 08-1038 Filed 3-13-08; 1:13 pm]

BILLING CODE 3410-02-P